DEPARTMENT OF AGRICULTURE

Foreign Agricultural Service

Trade Adjustment Assistance for Farmers

AGENCY: Foreign Agricultural Service, USDA.

ACTION: Notice.

The Administrator, Foreign Agricultural Service (FAS), today accepted a petition filed by a group of Concord grape producers in Pennsylvania, New York, and Ohio for trade adjustment assistance. A public hearing to review the merits of the petition will be held in Room 5066-S, South Agricultural Building, Washington, DC, on March 3, 2005, at 11 a.m. e.t.

SUPPLEMENTARY INFORMATION: The petition maintains that increasing imports of grape juice contributed importantly to a decline in the average purchase price for Concord grapes offered by domestic juice processors in the most recent marketing year. The producers have submitted the price sheets of grape juice processors serving the region to support their petition. Having accepted this petition, the Administrator has 40 days to determine whether or not Concord grape producers in Pennsylvania, New York, and Ohio are eligible for trade adjustment assistance. If the determination is positive, they will be eligible to apply to the Farm Service Agency for technical assistance at no cost and adjustment assistance payments.

FOR FURTHER INFORMATION CONTACT: Jean-Louis Pajot, Coordinator, Trade Adjustment Assistance for Farmers, FAS, USDA, (202) 720-2916, e-mail: trade.adjustment@fas.usda.gov.

Dated: February 16, 2005.
A. Ellen Terpstra,
Administrator, Foreign Agricultural Service.

[FR Doc. 05-3755 Filed 2-24-05; 8:45 am]

BILLING CODE 3410-10-P